DEPARTMENT OF COMMERCE

National Oceanic and Atmospheric Administration

RIN 0648-XE855

North Pacific Fishery Management Council; Public Meeting

AGENCY: National Marine Fisheries Service (NMFS), National Oceanic and Atmospheric Administration (NOAA), Commerce.

ACTION: Notice of public meeting.

SUMMARY: The North Pacific Fishery Management Council (Council) Crab Plan Team (CPT) will meet September 20 through September 23, 2016.

DATES: The meeting will be held on Tuesday, September 20, 2016 through Friday, September 23, 2016, from 9 a.m. to 5 p.m.

ADDRESSES: The meeting will be held at the Alaska Fishery Science Center Traynor Room 2076, 7600 Sand Point Way NE., Building 4, Seattle, WA 98115.

Council address: North Pacific Fishery Management Council, 605 W. 4th Ave., Suite 306, Anchorage, AK 99501-2252; telephone: (907) 271-2809.

FOR FURTHER INFORMATION CONTACT: Diana Stram, Council staff; telephone: (907) 271-2809.

SUPPLEMENTARY INFORMATION:

Agenda

Tuesday, September 20, 2016 Through Friday, September 23, 2016

The CPT will review updated stock assessments to determine overfishing status and catch specifications for PIBKC (Pribilof Islands Blue King Crab), BBRKC (Bristol Bay Red King Crab), PIRKC (Pribilof Island Red King Crab), SMBKC (St. Matthew Blue King Crab), Bering Sea Snow Crab, and Bering Sea Tanner Crab. The Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Dated: August 30, 2016.
Tracey L. Thompson,
Acting Deputy Director, Office of Sustainable Fisheries, National Marine Fisheries Service.

[FR Doc. 2016-21188 Filed 9-1-16; 8:45 am]

BILLING CODE 3510-22-P